FEDERAL TRADE COMMISSION

16 CFR Part 312

RIN 3084-AB20

Children's Online Privacy Protection Rule Applications for Approval of Proposed Parental Consent Methods by AssertID, Inc., Imperium LLC, and iVeriFly, Inc.; Application for Approval of Safe Harbor Program by kidSAFE Seal Program

AGENCY: Federal Trade Commission (FTC or Commission).

ACTION: Notice of extension of Commission determination and public comment deadlines.

SUMMARY: The FTC is extending the deadlines for Commission determination of applications for approval of proposed parental consent methods by AssertID, Inc. (“AssertID”), Imperium LLC (“Imperium”), and iVeriFly, Inc. (“iVeriFly”) pursuant to the Children's Online Privacy Protection Rule. In addition, the FTC is extending the deadline for filing public comments concerning Imperium's application for approval of a parental consent method and the proposed self-regulatory guidelines submitted by the kidSAFE Seal Program (“kidSAFE”), owned and operated by Samet Privacy, LLC, under the safe harbor provision of the Children's Online Privacy Protection Rule.

DATES: Written comments must be received by November 4, 2013.

ADDRESSES: Interested parties may file comments online or on paper, by following the instructions in the Request for Comment part of the SUPPLEMENTARY INFORMATION section below. For comments concerning Imperium, write “Imperium Application for Parental Consent Method, Project No. P-135419” on your comment and file your comment online at https://ftcpublic.commentworks.com/ftc/pmcoppaimperiumapp, by following the instructions on the web-based form. For comments concerning kidSAFE, write “kidSAFE Application for Safe Harbor, Project No. P-135418” on your comment, and file your comment online at https://ftcpublic.commentworks.com/ftc/coppakidsafeapp, by following the instructions on the web-based form. If you prefer to file your comment on paper, mail or deliver your comment to the following address: Federal Trade Commission, Office of the Secretary, Room H-113 (Annex E), 600 Pennsylvania Avenue NW., Washington, DC 20580.

FOR FURTHER INFORMATION CONTACT: Kandi Parsons, Attorney, (202) 326-2369, Peder Magee, Attorney, (202) 326-3538, or Kristin Cohen, (202) 326-2276, Division of Privacy and Identity Protection, Federal Trade Commission, Washington, DC 20580.

SUPPLEMENTARY INFORMATION:

Section A. Background

On October 20, 1999, the Commission issued its final Rule ¹ pursuant to the Children's Online Privacy Protection Act, 15 U.S.C. 6501 et seq., which became effective on April 21, 2000.² On December 19, 2012, the Commission amended the Rule, and these amendments became effective on July 1, 2013.³ The Rule requires certain Web site operators to post privacy policies and provide notice, and to obtain verifiable parental consent, prior to collecting, using, or disclosing personal information from children under the age of 13. The Rule enumerates methods for obtaining verifiable parental consent, while also allowing an interested party to file a written request for Commission approval of parental consent methods not currently enumerated.⁴ To be considered, the party must submit a detailed description of the proposed parental consent method, together with an analysis of how the method meets the requirements for parental consent described in 16 CFR 312.5(b)(1). AssertID, Imperium, and iVeriFly have submitted proposed parental consent methods to the Commission for approval. The Rule also contains a “safe harbor” provision enabling industry groups or others to submit to the Commission for approval self-regulatory guidelines that would implement the Rule's protections.⁵ Pursuant to that provision, kidSAFE has submitted proposed self-regulatory guidelines to the Commission for approval. The full text of the verifiable parental consent method applications and kidSAFE's proposed guidelines are available on the Commission's Web site at www.ftc.gov.

¹ 64 FR 59888 (1999).

² 16 CFR part 312.

³ 78 FR 3972 (2013).

⁴ 16 CFR 312.12(a); 78 FR at 3991-3992, 4013.

⁵ See 16 CFR 312.11; 78 FR at 3995-96, 4012-13.

The Children's Online Privacy Protection Rule provides that the Commission shall issue a written determination within 120 days of the filing of an application for approval of a verifiable parental consent method.⁶ Because of the federal government shutdown, which began on October 1, 2013, the Commission was unable to review comments and prepare determinations on the applications. The federal government re-opened on October 17, 2013. In order to ensure that it can give full consideration to the applications submitted by AssertID, Imperium, and iVeriFly, the Commission has determined to extend the timetable laid out in 16 CFR 312.12(a) by sixteen days in order to account for the time period in which the government was shut down. Accordingly, the Commission will issue its determination for AssertID by November 13, 2013; for Imperium by December 26, 2013; and for iVeriFly by February 4, 2014.

⁶ 16 CFR 312.12(a).

In addition, during the time when the government was shut down, interested parties were unable to submit comments on Imperium's application for approval of a parental consent method or on kidSAFE's proposed self-regulatory guidelines. The Commission has decided to extend the comment period for both matters until November 4, 2013.

Section B. Invitation To Comment

You can file a comment online or on paper. For the Commission to consider your comment, we must receive it on or before November 4, 2013. For comments concerning Imperium, write “Imperium Application for Parental Consent Method, Project No. P-135419” on your comment. For comments concerning kidSAFE, write “kidSAFE Application for Safe Harbor, Project No. P-135418” on your comment. Your comment—including your name and your state—will be placed on the public record of this proceeding, including, to the extent practicable, on the Commission Web site, at http://www.ftc.gov/os/publiccomments.shtm. As a matter of discretion, the Commission tries to remove individuals' home contact information from comments before placing them on the Commission Web site.

Because your comment will be made public, you are solely responsible for making sure that your comment doesn't include any sensitive personal information, such as Social Security number, date of birth, driver's license number or other state identification number or foreign country equivalent, passport number, financial account number, or credit or debit card number. You are also solely responsible for making sure that your comment doesn't include any sensitive health information, including medical records or other individually identifiable health information. In addition, do not include any “[t]rade secret or any commercial or financial information which is obtained from any person and which is privileged or confidential,” as provided in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and follow the procedure explained in FTC Rule 4.9(c), 16 CFR 4.9(c).⁵ Your comment will be kept confidential only if the FTC General Counsel, in his or her sole discretion, grants your request in accordance with the law and the public interest.

⁵ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file your comment concerning Imperium at https://ftcpublic.commentworks.com/ftc/pmcoppaimperiumapp, and your comment concerning kidSAFE at https://ftcpublic.commentworks.com/ftc/coppakidsafeapp, by following the instructions on the web-based form. If this Notice appears at http://www.regulations.gov/#!home, you also may file a comment through that Web site.

If you file your comment concerning Imperium on paper, write “Imperium Application for Parental Consent Method, Project No. P-135419” on your comment and on the envelope, and mail or deliver it to the following address: Federal Trade Commission, Office of the Secretary, Room H-113 (Annex E), 600 Pennsylvania Avenue NW., Washington, DC 20580. If you file your comment concerning kidSAFE on paper, write “kidSAFE Application for Safe Harbor, Project No. P-135418” on your comment and on the envelope, and mail or deliver it to the following address: Federal Trade Commission, Office of the Secretary, Room H-113 (Annex E), 600 Pennsylvania Avenue NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before November 4, 2013. You can find more information, including routine uses permitted by the Privacy Act, in the Commission's privacy policy, at http://www.ftc.gov/ftc/privacy.htm.

By direction of the Commission.
Donald S. Clark,
Secretary.

[FR Doc. 2013-25452 Filed 10-28-13; 8:45 am]

BILLING CODE 6750-01-P